FEDERAL DEPOSIT INSURANCE CORPORATION

[OMB No. 3064-0152; -0190; -0207]

Agency Information Collection Activities: Proposed Collection Renewal; Comment Request

AGENCY: Federal Deposit Insurance Corporation.

ACTION: Notice and request for comment.

SUMMARY: The Federal Deposit Insurance Corporation (FDIC), as part of its obligations under the Paperwork Reduction Act of 1995, invites the general public and other Federal agencies to take this opportunity to comment on the request to renew the existing information collections described below (OMB Control No. 3064-0152; -0190 and -0207). The notices of proposed renewal for these information collections were previously published in the Federal Register on April 25, 2025, allowing for a 60-day comment period.

DATES: Comments must be submitted on or before August 7, 2025.

ADDRESSES: Interested parties are invited to submit written comments to the FDIC by any of the following methods:

• Agency Website: https://www.fdic.gov/resources/regulations/federal-register-publications/.

• Email: comments@fdic.gov. Include the name and number of the collection in the subject line of the message.

• Mail: Robert Meiers, Regulatory Attorney, MB-3013, Federal Deposit Insurance Corporation, 550 17th Street NW, Washington, DC 20429.

• Hand Delivery: Comments may be hand-delivered to the guard station at the rear of the 17th Street NW building (located on F Street NW), on business days between 7 a.m. and 5 p.m.

Written comments and recommendations for the proposed information collection should be sent within 30 days of publication of this notice to www.reginfo.gov/public/do/PRAMain. Find these information collections by selecting “Currently under 30-day Review—Open for Public Comments” or by using the search function.

FOR FURTHER INFORMATION CONTACT: Robert Meiers, Regulatory Attorney, Romeiers@fdic.gov, MB-3013, Federal Deposit Insurance Corporation, 550 17th Street NW, Washington, DC 20429.

SUPPLEMENTARY INFORMATION: Proposal to renew the following currently approved collection of information:

1. Title: ID Theft Red Flags.

OMB Number: 3064-0152.

Form Number: None.

Affected Public: Insured State Nonmember Banks.

Burden Estimate:

Summary of Estimated Annual Burden (OMB No. 3064-0152)
Information collection (IC) (obligation to respond) | Type of burden (frequency of response) | Number of respondents | Number of responses per respondent | Average time per response (HH:MM) | Annual Burden (Hours)
1. Program Establishment 12 CFR 334.90(d); 12 CFR 334.91(c) (Mandatory) | Recordkeeping (On occasion) | 8 | 1 | 40:00 | 320
2. Program Operations 12 CFR 334.90(c),(e); 12 CFR 334.91(c) (Mandatory) | Recordkeeping (Annual) | 2,854 | 1 | 16:00 | 45,664
3. Program Establishment 12 CFR 1022.82(c),(d) (Mandatory) | Recordkeeping (On occasion) | 8 | 1 | 40:00 | 320
4. Program Operations 12 CFR 1022.82(c),(d) (Mandatory) | Recordkeeping (Annual) | 2,795 | 1 | 04:00 | 11,180
5. Specific Incident Responses 12 CFR 1022.82(d)(1 through 3) (Mandatory) | Disclosure (On occasion) | 2,795 | 16 | 00:10 | 7,453
Total Annual Burden (Hours): |  |  |  |  | 64,937
Source: FDIC.
Note: The estimated annual IC time burden is the product, rounded to the nearest hour, of the estimated annual number of responses and the estimated time per response for a given IC. The estimated annual number of responses is the product, rounded to the nearest whole number, of the estimated annual number of respondents and the estimated annual number of responses per respondent. This methodology ensures the estimated annual burdens in the table are consistent with the values recorded in OMB's consolidated information system.

General Description of Collection: The regulation containing this information collection requirement is 12 CFR part 334, which implements sections 114 and 315 of the Fair and Accurate Credit Transactions Act of 2003 (FACT Act), Public Law 108-159 (2003). FACT Act Section 114: Section 114 requires the Board of Governors of the Federal Reserve System, the Office of the Comptroller of the Currency, and the FDIC (the agencies) to jointly propose guidelines for financial institutions and creditors identifying patterns, practices, and specific forms of activity that indicate the possible existence of identity theft. In addition, each financial institution and creditor is required to establish reasonable policies and procedures to address the risk of identity theft that incorporate the guidelines. Credit card and debit card issuers must develop policies and procedures to assess the validity of a request for a change of address under certain circumstances. The information collections pursuant to section 114 require each financial institution and creditor to create an Identity Theft Prevention Program and report to the board of directors, a committee thereof, or senior management at least annually on compliance with the proposed regulations. In addition, staff must be trained to carry out the program. Each credit and debit card issuer is required to establish policies and procedures to assess the validity of a change of address request. The card issuer must notify the cardholder or use another means to assess the validity of the change of address. FACT Act Section 315: Section 315 requires the agencies to issue regulations providing guidance regarding reasonable policies and procedures that a user of consumer reports must employ when such a user receives a notice of address discrepancy from a consumer reporting agency. Part 334 provides such guidance. Each user of consumer reports must develop reasonable policies and procedures that it will follow when it receives a notice of address discrepancy from a consumer reporting agency. A user of consumer reports must furnish an address that the user has reasonably confirmed to be accurate to the consumer reporting agency from which it receives a notice of address discrepancy. There is no change in the methodology or substance of this information collection. The 7,847 decrease in total estimated annual burden from 72,784 hours in 2022 to 64,937 hours currently is due to a decrease in the estimated number of respondents and a reduction in the estimated number of responses per respondent.

2. Title: Loans in Areas Having Special Flood Hazards.

OMB Number: 3064-0207.

Form Number: None.

Affected Public: Private Sector.

Burden Estimate:

Summary of Estimated Annual Burden (OMB No. 3064-0207)
Information collection (IC) (obligation to respond) | Type of burden (frequency of response) | Number of respondents | Number of responses per respondent | Average time per response (HH:MM) | Annual burden (hours)
1. Private flood insurance, 12 CFR 339.3(c)(3)(iv) and (4)(iv) (Mandatory) | Recordkeeping (On Occasion) | 2,825 | 2 | 00:30 | 2,825
2. Standard flood hazard determination form, 12 CFR 339.6(b) (Mandatory) | Recordkeeping (On Occasion) | 2,825 | 296 | 00:025 | 34,842
3. Record of receipt of notice of special flood hazards and availability of Federal disaster relief assistance, 12 CFR 339.9(d) (Mandatory) | Recordkeeping (On Occasion) | 2,825 | 37 | 00:15 | 26,131
4. Notice of requirement to escrow flood insurance payments and fees, 12 CFR 339.5(b) (Mandatory) | Disclosure (On Occasion) | 494 | 62 | 00:05 | 2,552
5. Change in status, 12 CFR 339.5(c)(2) (Mandatory) | Disclosure (On Occasion) | 29 | 1 | 40:00 | 1,160
6. Notice of option to escrow flood insurance payments and fees, 12 CFR 339.5(d)(2) (Mandatory) | Disclosure (On Occasion) | 29 | 17 | 00:05 | 41
7. Notice to borrower to obtain or increase flood insurance coverage, 12 CFR 339.7(a) (Mandatory) | Disclosure (On Occasion) | 2,825 | 10 | 00:05 | 2,354
8. Notification to terminate flood insurance purchased on behalf of a borrower, 12 CFR 339.7(b)(1)(i) (Mandatory) | Disclosure (On Occasion) | 2,825 | 1 | 00:15 | 706
9. Notice of special flood hazards and availability of Federal disaster relief assistance, 12 CFR 339.9(a) (Mandatory) | Disclosure (On Occasion) | 2,825 | 37 | 00:15 | 26,131
10. Notice to Administrator of FEMA of the loan servicer's identity, 12 CFR 339.10(a) (Mandatory) | Disclosure (On Occasion) | 2,825 | 19 | 00:05 | 4,473
11. Notice to the Administrator of FEMA of a change in the loan servicer, 12 CFR 339.10(b) (Mandatory) | Disclosure (On Occasion) | 2,825 | 19 | 00:05 | 4,473
Total Annual Burden (Hours): |  |  |  |  | 105,688
Source: FDIC.
Note: The estimated annual IC time burden is the product, rounded to the nearest hour, of the estimated annual number of responses and the estimated time per response for a given IC. The estimated annual number of responses is the product, rounded to the nearest whole number, of the estimated annual number of respondents and the estimated annual number of responses per respondent. This methodology ensures the estimated annual burdens in the table are consistent with the values recorded in OMB's consolidated information system.

General Description of Collection: Each supervised lending institution is required to provide a notice of special flood hazards to a borrower acquiring a loan secured by a building on real property located in an area identified by FEMA as subject to special flood hazards, and various other notices to borrowers, servicers and FEMA. The Riegle Community Development Act requires that each institution also provide a copy of the notice to the servicer of the loan (if different from the originating lender). Section 100239 of the Biggert-Waters Flood Insurance Reform Act of 2012 requires each Federal banking agency (including the FDIC), and the Farm Credit Administration, to adopt implementing regulations to direct regulated lending institutions to accept “private flood insurance,” as defined by the Biggert-Waters Act. A lending institution would be required to implement policies and procedures to comply with the Biggert-Waters Act provision and verify in writing that a private insurance policy satisfies the criteria included in the definition, or document findings that separate required criteria have been met when accepting a private flood insurance policy in satisfaction of the mandatory flood insurance purchase requirement of the Flood Disaster Protection Act. The institution must also maintain records to permit examination staff to ascertain how the institution has met the requirements of the regulation. There is no change in the methodology or substance of this information collection. The decrease in total estimated annual burden from 117,613 hours in 2022 to 105,688 hours currently is due to a decrease in the estimated number of respondents.

3. Title: Certification of Compliance with Mandatory Bars to Employment.

OMB Number: 3064-0190.

Form Number: 6910/10.

Affected Public: Individuals, financial institutions, and other private sector entities.

Burden Estimate:

Summary of Estimated Annual Burden (OMB No. 3064-0190)
Information collection (IC) (obligation to respond) | Type of burden (frequency of response) | Number of respondents | Number of responses per respondent | Time per response (HH:MM) | Annual burden (Hours)
Interagency Appraisal Complaint Form, 12 U.S.C 3351 (Voluntary) | Reporting (On Occasion) | 62 | 1 | 00:30 | 31
Total Annual Burden (Hours): |  |  |  |  | 31
Source: FDIC.

General Description of Collection: The Interagency Appraisal Complaint Form is designed to collect information necessary for one or more agencies to take further action on a complaint from an appraiser, other individual, financial institution, or other entities. The FDIC will use the information to take further action on the complaint to the extent it relates to an issue within its jurisdiction. There is no change in the methodology or substance of this information collection. The decrease in total estimated annual burden from 58 hours in 2022 to 31 hours currently is due to a decrease in the estimated number of respondents.

Request for Comment

Comments are invited on (a) whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on July 2, 2025.
Jennifer M. Jones,
Deputy Executive Secretary.

[FR Doc. 2025-12612 Filed 7-7-25; 8:45 am]

BILLING CODE 6714-01-P